COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) and service(s) from the Procurement List that were furnished by nonprofit agencies employing persons who are blind or have other severe disabilities.

DATES: Date added to and deleted from the Procurement List: November 10, 2024.

ADDRESSES: Committee for Purchase From People Who Are Blind or Severely Disabled, 355 E Street SW, Suite 325, Washington, DC 20024.

FOR FURTHER INFORMATION CONTACT: Michael R. Jurkowski, telephone: (703) 785-6404, or email CMTEFedReg@AbilityOne.gov.

SUPPLEMENTARY INFORMATION:

Deletions

On 9/6/2024 (89 FR 72829), the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

8465-01-524-8407—Carrier, Entrenching Tool, Universal Camouflage

Authorized Source of Supply: Chautauqua County Chapter, NYSARC, Jamestown, NY

Authorized Source of Supply: Dallas Lighthouse for the Blind, Inc., Dallas, TX

Contracting Activity: DLA TROOP SUPPORT, PHILADELPHIA, PA

Service(s)

Service Type: Janitorial/Custodial

Mandatory for: Eldorado National Forest: Supervisors Office, Placerville, CA

Authorized Source of Supply: PRIDE Industries, Roseville, CA

Contracting Activity: FOREST SERVICE, TAHOE NATIONAL FOREST

Service Type: Mailroom Operation

Mandatory for: Internal Revenue Service, University Plaza Building, 949 East 36th Avenue Room 112, Anchorage, AK

Authorized Source of Supply: Assets, Inc., Anchorage, AK

Contracting Activity: INTERNAL REVENUE SERVICE, DEPT OF TREAS/INTERNAL REVENUE SERVICE

Service Type: Grounds Maintenance

Mandatory for: Air National Guard Readiness Center, Andrews AFB, MD

Authorized Source of Supply: Melwood Horticultural Training Center, Inc., Upper Marlboro, MD

Contracting Activity: DEPT OF DEFENSE, DOD/OFF OF SECRETARY OF DEF (EXC MIL DEPTS)

Service Type: Janitorial/Custodial Service

Mandatory for: Bureau of Land Management, Carlsbad Field Office, 620 East Greene Street, Carlsbad, NM

Authorized Source of Supply: Tresco, Inc., Las Cruces, NM

Contracting Activity: BUREAU OF LAND MANAGEMENT, NM-CARLSBAD FIELD OFFICE

Service Type: Grounds Maintenance

Mandatory for: US Army Corps of Engineers, Douglas Creek Recreation Area, 201 First Street, Riverdale, ND

Authorized Source of Supply: MVW Services, Inc., Minot, ND

Contracting Activity: DEPT OF THE ARMY, W071 ENDIST OMAHA

Michael R. Jurkowski,
Director, Business Operations.

[FR Doc. 2024-23601 Filed 10-10-24; 8:45 am]

BILLING CODE 6353-01-P